DEPARTMENT OF DEFENSE

Defense Acquisition Regulations System

[OMB Control Number 0704-0286]

Information Collection Requirement; Defense Federal Acquisition Regulation Supplement; Part 205, Publicizing Contract Actions

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through October 31, 2010. DoD proposes that OMB extend its approval to expire three years after the approval date.

DATES: DoD will consider all comments received by April 9, 2010.

ADDRESSES: You may submit comments, identified by OMB Control Number 0704-0286, using any of the following methods:

○ Federal eRulemaking Portal: http://www.regulations.gov. Follow the instructions for submitting comments.

○ E-mail: dfars@acq.osd.mil. Include OMB Control Number 0704-0286 in the subject line of the message.

○ Fax: (703) 602-0350.

○ Mail: Defense Acquisition Regulations System, Attn: Ms. Meredith Murphy, OUSD (AT&L) DPAP (DARS), 3060 Defense Pentagon, Room 3B855, Washington, DC 20301-3060.

o Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Meredith Murphy, (703) 602-1302. The information collection requirements addressed in this notice are available electronically on the World Wide Web at: http://www.acq.osd.mil/dp/dars/dfars.html. Paper copies are available from Ms. Meredith Murphy, OUSD (AT&L) DPAP (DARS), 3060 Defense Pentagon, Room 3B855, Washington, DC 20301-3060.

SUPPLEMENTARY INFORMATION:

Title and OMB Number: Defense Federal Acquisition Regulation Supplement (DFARS) Part 205, Publicizing Contract Actions, and the associated clause at DFARS 252.205-7000, Provision of Information to Cooperative Agreement Holders; OMB Control Number 0704-0286.

Needs and Uses: This information collection requires DoD contractors with contracts of $1 million or more to provide information to cooperative agreement holders, upon request, regarding employees or offices responsible for entering into subcontracts under DoD contracts. Cooperative agreement holders furnish procurement technical assistance to business entities within specified geographical areas. This policy implements section 2416 of Title 10, United States Code.

Affected Public: Businesses or other for-profit and not-for-profit institutions.

Annual Burden Hours: 7,700.

Number of Respondents: 7,000.

Responses per Respondent: 1.

Annual Responses: 7,000.

Average Burden per Response: 1.1 hour average.

Frequency: On occasion.

Summary of Information Collection

DFARS Part 205 and the clause at DFARS 252.205-7000 require DoD contractors awarded contracts over $1 million provide to cooperative agreement holders, upon their request, a list of those appropriate employees or offices responsible for entering into subcontracts under DoD contracts. The list must include the business address, telephone number, and area of responsibility of each employee or office. The contractor need not provide the list to a particular cooperative agreement holder more frequently than once a year.

Ynette R. Shelkin,
Editor, Defense Acquisition Regulations Council.

[FR Doc. 2010-2704 Filed 2-5-10; 8:45 am]

BILLING CODE 5001-08-P